DEPARTMENT OF THE INTERIOR

Fish and Wildlife Service

Sears Point Wetland and Watershed Restoration Project

AGENCY: Fish and Wildlife Service, Interior.

ACTION: Notice of intent to prepare an environmental impact statement.

SUMMARY: We, the U.S. Fish and Wildlife Service (Service), in coordination with the California Department of Fish and Game (CDFG), are preparing a joint environmental impact report/environmental impact statement (EIR/EIS) for the Sears Point Wetland and Watershed Restoration Project (Project), located in Sonoma County, California. At this early stage in the planning process, the purpose of the Project is to restore natural estuarine ecosystems on diked baylands, while providing public access and recreational and educational opportunities compatible with ecological and cultural resources protection. This scoping notice advises the public that we intend to gather information necessary to prepare an EIS pursuant to the National Environmental Policy Act (NEPA). We encourage the public and other agencies to participate in the NEPA scoping process by sending written suggestions and information on the issues and concerns that should be addressed in the draft EIR/EIS, including the range of suitable alternatives, appropriate mitigation measures, and the nature and extent of potential environmental impacts. Throughout the EIR/EIS process, we will announce additional opportunities for public input.

DATES: To ensure that we have adequate time to evaluate and incorporate suggestions and other input, we must receive comments on or before February 28, 2008.

ADDRESSES: Send written comments or requests to be added to our mailing list to the following address: Christy Smith, Refuge Manager, San Pablo Bay National Wildlife Refuge, U.S. Fish and Wildlife Service, 7715 Lakeville Highway, Petaluma, CA 94954. Alternatively, you may fax written comments to 707-769-8106, or send them by electronic mail to christy_smith@fws.gov. Please include the heading “Sears Point NEPA Scoping Comments” in your response.

FOR FURTHER INFORMATION CONTACT: Christy Smith, Refuge Manager, San Pablo Bay National Wildlife Refuge, at (707) 769-4200, or John Brosnan, Baylands Program Manager, at (707) 526-6930 x 109.

SUPPLEMENTARY INFORMATION:

Background

At this early stage of the planning process, project goals are to restore the maximum feasible extent of tidal marsh and channel habitats. Where full tidal extent cannot be restored, we would seek to maximize diked wetland functions through management, enhancement, and restoration actions while maintaining viable agricultural uses to the extent compatible. In addition, we would provide public access and recreational and educational opportunities that are compatible with ecological and cultural resources protection.

The project site is located at Sears Point near the intersection of Lakeville-Reclamation Road and State Route 37 (SR 37) in southern Sonoma County, California. The site is also traversed from east to west by an inactive rail line owned by the Sonoma-Marin Area Rail Transit (SMART) District.

The project site is a total of 2,327 acres (ac) owned by the Sonoma Land Trust and is comprised of two large properties, the North Point Joint Venture (NPJV) parcel and the Dickson Ranch parcel, which are situated on the edge of San Pablo Bay between the mouth of the Petaluma River and Tolay Creek. The 1,679-ac NPJV parcel extends both north and south of SR 37. It is bounded on the north by the Infineon Raceway property, on the east by Cougar Mountain (north of SR 37) and Paradise Vineyards (south of SR 37), on the south by the SMART rail line, and on the west by Lakeville-Reclamation Road. The 648-ac Dickson Ranch parcel is located entirely south of Highway 37, and is bounded on the north by the SMART rail line, on the west by Tolay Creek, on the south by San Pablo Bay, and on the west by the outboard levee as it veers bayward from the SMART rail line. The entire Dickson Ranch parcel and 858 acres of the North Point Joint Venture parcel are located within the approved acquisition boundary of the San Pablo Bay NWR.

Site topography ranges from below mean sea level (msl) in portions of the subsided diked baylands along the southern project boundary to approximately 400 feet above msl in the rolling uplands north of SR 37. With the exception of a small number of barns, houses, and outbuildings scattered throughout the project site, the area is predominantly undeveloped, comprising a mixture of tidal, seasonal, and riparian wetlands, streams, and upland habitats.

The project site contains existing or potential suitable habitat for a number of special status species, including the federally listed endangered salt marsh harvest mouse (Reithrodontomys raviventris), California clapper rail (Rallus longirostris obsoletus), and the federally listed threatened California red-legged frog (Rana aurora draytonii). Two federally listed threatened fish species—the Central Valley and Central California Coast steelhead (Oncorhynchus mykiss) and green sturgeon (Acipenser medirostris)—may also benefit from the project goals. Other species may be addressed as necessary in the EIR/EIS based on further analysis, new information, agency consultation, and public comment.

NEPA Compliance

Information gathered through this scoping process will assist us in preparing a reasonable range of alternatives to address the restoration of the project site at Sears Point. These alternatives are likely to include some activity within the San Pablo Bay National Wildlife Refuge. We will use the EIR/EIS to determine whether to authorize activities within the San Pablo Bay National Wildlife Refuge in order to accomplish project goals. A detailed description of the proposed action and alternatives will be included in the EIR/EIS.

The EIR/EIS will identify the direct, indirect, and cumulative impacts of the alternatives on biological resources, cultural resources, land use, air quality, water quality, water resources, and other environmental resources. It will also identify appropriate mitigation measures for adverse environmental effects.

We will conduct environmental review of the EIR/EIS in accordance with the requirements of NEPA, as amended (42 U.S.C. 4321 et seq.), its implementing regulations (40 CFR parts 1500-1508), other applicable regulations, and our procedures for compliance with those regulations. The environmental document will be prepared to meet both the requirements of NEPA and the California Environmental Quality Act (CEQA). The California Department of Fish and Game is the CEQA lead agency. We anticipate that the draft EIR/EIS will be available for public review in Spring 2008.

We are furnishing this notice in accordance with section 1501.7 of the NEPA implementing regulations to obtain suggestions and information from other agencies and the public on the scope of issues to be addressed in the EIR/EIS. We invite written comments from interested parties to ensure identification of the full range of issues.

Before including your address, phone number, e-mail address, or other personal identifying information in your comment, you should be aware that your entire comment—including your personal identifying information—may be made publicly available at any time. While you can ask us in your comment to withhold your personal identifying information from public review, we cannot guarantee that we will be able to do so.

Dated: January 16, 2008.
Ken McDemond,
Acting Regional Director, California Nevada Region.

[FR Doc. E8-1069 Filed 1-22-08; 8:45 am]

BILLING CODE 4310-55-P